DEPARTMENT OF ENERGY

Federal Energy Regulatory Commission

Combined Notice of Filings #1

Take notice that the Commission received the following electric corporate filings:

Docket Numbers: EC22-95-000.

Applicants: Cambria Wind, LLC.

Description: Application for Authorization Under Section 203 of the Federal Power Act of Cambria Wind, LLC.

Filed Date: 7/22/22.

Accession Number: 20220722-5177.

Comment Date: 5 p.m. ET 8/12/22.

Take notice that the Commission received the following exempt wholesale generator filings:

Docket Numbers: EG22-188-000.

Applicants: KCE NY 6, LLC.

Description: Notice of Self-Certification of Exempt Wholesale Generator Status of KCE NY 6, LLC.

Filed Date: 7/26/22.

Accession Number: 20220726-5039.

Comment Date: 5 p.m. ET 8/16/22.

Docket Numbers: EG22-189-000.

Applicants: KCE TX 13, LLC.

Description: KCE TX 13, LLC submits Notice of Self-Certification of Exempt Wholesale Generator Status.

Filed Date: 7/26/22.

Accession Number: 20220726-5043.

Comment Date: 5 p.m. ET 8/16/22.

Docket Numbers: EG22-190-000.

Applicants: KCE TX 19, LLC.

Description: KCE TX 19, LLC submits Notice of Self-Certification of Exempt Wholesale Generator Status.

Filed Date: 7/26/22.

Accession Number: 20220726-5073.

Comment Date: 5 p.m. ET 8/16/22.

Docket Numbers: EG22-191-000.

Applicants: KCE TX 21, LLC.

Description: EG or FC of KCE TX 21, LLC submits Self-Certification of Exempt Wholesale Generator Status.

Filed Date: 7/26/22.

Accession Number: 20220726-5078.

Comment Date: 5 p.m. ET 8/16/22.

Take notice that the Commission received the following Complaints and Compliance filings in EL Dockets:

Docket Numbers: EL22-79-000; QF20-1379-001.

Applicants: Hollow Road Solar, LLC, Hollow Road Solar, LLC.

Description: Petition for Enforcement Pursuant to Section 210(h) of the Public Utility Regulatory Policies Act of 1978 of Hollow Road Solar, LLC.

Filed Date: 7/25/22.

Accession Number: 20220725-5167.

Comment Date: 5 p.m. ET 8/15/22.

Take notice that the Commission received the following electric rate filings:

Docket Numbers: ER11-3336-002.

Applicants: Command Power Corp.

Description: Notice of Non-Material Change in Status of Command Power Corp.

Filed Date: 7/25/22.

Accession Number: 20220725-5153.

Comment Date: 5 p.m. ET 8/15/22.

Docket Numbers: ER22-2300-000.

Applicants: PJM Interconnection, L.L.C.

Description: PJM Interconnection, L.L.C. submits Notice of Cancellation of Transmission Service Agreement No. 17 for Non-Firm Point-to-Point Transmission Service entered into by and between PJM and Carolina Power & Light Company.

Filed Date: 7/1/22.

Accession Number: 20220701-5474.

Comment Date: 5 p.m. ET 8/1/22.

Docket Numbers: ER22-2316-000.

Applicants: BP Energy Company.

Description: Motion for Leave to File Report Out of Time and a Report of bp Energy Company.

Filed Date: 7/6/22.

Accession Number: 20220706-5162.

Comment Date: 5 p.m. ET 8/16/22.

Docket Numbers: ER22-2483-000.

Applicants: Alta Farms Wind Project II, LLC.

Description: Baseline eTariff Filing: Alta Farms Wind Project II, LLC MBR Tariff to be effective 9/23/2022.

Filed Date: 7/25/22.

Accession Number: 20220725-5140.

Comment Date: 5 p.m. ET 8/15/22.

Docket Numbers: ER22-2484-000.

Applicants: New York State Electric & Gas Corporation.

Description: § 205(d) Rate Filing: Engineering and Procurement Agreement with Lake Mariner Data LLC to be effective 3/24/2022.

Filed Date: 7/25/22.

Accession Number: 20220725-5143.

Comment Date: 5 p.m. ET 8/15/22.

Docket Numbers: ER22-2485-000.

Applicants: Midcontinent Independent System Operator, Inc.

Description: § 205(d) Rate Filing: 2022-07-26_SA 3239 MEC-Wisconsin Power and Light 2nd Rev GIA (J534) to be effective 7/15/2022.

Filed Date: 7/26/22.

Accession Number: 20220726-5011.

Comment Date: 5 p.m. ET 8/16/22.

Docket Numbers: ER22-2486-000.

Applicants: Midcontinent Independent System Operator, Inc., Ameren Illinois Company.

Description: § 205(d) Rate Filing: Midcontinent Independent System Operator, Inc. submits tariff filing per 35.13(a)(2)(iii: 2022-07-26_SA 2685 Ameren-SIPC_Irvington Dix Proj Spec 3 to be effective 9/24/2022.

Filed Date: 7/26/22.

Accession Number: 20220726-5015.

Comment Date: 5 p.m. ET 8/16/22.

Docket Numbers: ER22-2487-000.

Applicants: Southwest Power Pool, Inc.

Description: § 205(d) Rate Filing: 3127R6 Montana-Dakota Utilities Co. NITSA NOA to be effective 7/1/2022.

Filed Date: 7/26/22.

Accession Number: 20220726-5024.

Comment Date: 5 p.m. ET 8/16/22.

Docket Numbers: ER22-2488-000.

Applicants: Arizona Public Service Company.

Description: Petition for Waiver of Arizona Public Service Company.

Filed Date: 7/26/22.

Accession Number: 20220726-5049.

Comment Date: 5 p.m. ET 8/16/22.

Docket Numbers: ER22-2489-000.

Applicants: Tucson Electric Power Company.

Description: § 205(d) Rate Filing: TEP, PNM & PDE LGIA to be effective 6/29/2022.

Filed Date: 7/26/22.

Accession Number: 20220726-5058.

Comment Date: 5 p.m. ET 8/16/22.

Docket Numbers: ER22-2490-000.

Applicants: Dominion Energy South Carolina, Inc.

Description: § 205(d) Rate Filing: Carolina Reserve Sharing Group Operating Manual to be effective 10/1/2022.

Filed Date: 7/26/22.

Accession Number: 20220726-5077.

Comment Date: 5 p.m. ET 8/16/22.

Docket Numbers: ER22-2491-000.

Applicants: Database returns error. There is a problem with archive data and system. Contact Administrator.

Description: § 205(d) Rate Filing: Midcontinent Independent System Operator, Inc. submits tariff filing per 35.13(a)(2)(iii: 2022-07-26_SA 3874 Wolverine Power-Grand Haven MIFA to be effective 7/30/2022.

Filed Date: 7/26/22.

Accession Number: 20220726-5088.

Comment Date: 5 p.m. ET 8/16/22.

Docket Numbers: ER22-2492-000.

Applicants: Public Service Company of Colorado.

Description: § 205(d) Rate Filing: PRPA—BHCE JDA update to be effective 8/1/2022.

Filed Date: 7/26/22.

Accession Number: 20220726-5092.

Comment Date: 5 p.m. ET 8/16/22.

Docket Numbers: ER22-2493-000.

Applicants: Northern States Power Company, a Minnesota corporation.

Description: § 205(d) Rate Filing: 2022-07-26 ITCLLC-CIAC-Lakefield Jct-Nobles 713 to be effective 7/27/2022.

Filed Date: 7/26/22.

Accession Number: 20220726-5098.

Comment Date: 5 p.m. ET 8/16/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2022.
Debbie-Anne A. Reese,
Deputy Secretary.

[FR Doc. 2022-16414 Filed 7-29-22; 8:45 am]

BILLING CODE 6717-01-P